DEPARTMENT OF HEALTH AND HUMAN SERVICES

National Institutes of Health

Center for Scientific Review; Cancellation of Meeting

Notice is hereby given of the cancellation of the Center for Scientific Review Special Emphasis Panel, June 9, 2011, 8 p.m. to June 10, 2011, 5 p.m., The Allerton Hotel, 701 North Michigan Avenue, Chicago, IL 60611 which was published in the Federal Register on May 3, 2011, 76 FR 24894-24896.

The meeting is cancelled due to the application being withdrawn.

Dated: May 24, 2011.
Jennifer S. Spaeth,
Director, Office of Federal Advisory Committee Policy.

[FR Doc. 2011-13535 Filed 5-31-11; 8:45 am]

BILLING CODE 4140-01-P